ENVIRONMENTAL PROTECTION AGENCY

40 CFR Part 52

[EPA-R05-OAR-2017-0191; FRL-9986-30-Region 5]

Air Plan Approval; Michigan; Infrastructure SIP Requirements for the 2012 PM2.5 NAAQS; Multistate Transport

AGENCY: Environmental Protection Agency (EPA).

ACTION: Proposed rule.

SUMMARY: The Environmental Protection Agency (EPA) is proposing to approve elements of the State Implementation Plan (SIP) submission from Michigan regarding the infrastructure requirements of section 110 of the Clean Air Act (CAA) for the 2012 annual fine particulate matter (PM2.5) National Ambient Air Quality Standard (NAAQS or standard). The infrastructure requirements are designed to ensure that the structural components of each state's air quality management program are adequate to meet the state's responsibilities under the CAA. This action pertains specifically to infrastructure requirements concerning interstate transport provisions.

DATES: Comments must be received on or before December 14, 2018.

ADDRESSES: Submit your comments, identified by Docket ID No. EPA-R05-OAR-2017-0191 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is the background of this SIP submission?

II. What guidance and memoranda is EPA using to evaluate this SIP submission?

III. EPA's Review

IV. What action is EPA taking?

V. Statutory and Executive Order Reviews

I. What is the background of this SIP submission?

This rulemaking addresses a submission from the Michigan Department of Environmental Quality dated March 23, 2017, which describes its infrastructure SIP for the 2012 annual PM2.5 NAAQS (78 FR 3086). Specifically, this rulemaking addresses the portion of the submission dealing with interstate pollution transport under CAA Section 110(a)(2)(D)(i), otherwise known as the “good neighbor” provision. The requirement for states to make a SIP submission of this type arises from Section 110(a)(1) of the CAA. Pursuant to Section 110(a)(1), states must submit “within 3 years (or such shorter period as the Administrator may prescribe) after the promulgation of a national primary ambient air quality standard (or any revision thereof),” a plan that provides for the “implementation, maintenance, and enforcement” of such NAAQS. The statute directly imposes on states the duty to make these SIP submissions, and the requirement to make the submissions is not conditioned upon EPA's taking any action other than promulgating a new or revised NAAQS. Section 110(a)(2) includes a list of specific elements that “[e]ach such plan” submission must address. EPA commonly refers to such state plans as “infrastructure SIPs.”

II. What guidance and memoranda is EPA using to evaluate this SIP submission?

EPA highlighted the statutory requirement to submit infrastructure SIPs within three years of promulgation of a new NAAQS in an October 2, 2007, guidance document entitled “Guidance on SIP Elements Required Under Sections 110(a)(1) and (2) for the 1997 8-hour Ozone and PM2.5 National Ambient Air Quality Standards” (2007 guidance). EPA has issued additional guidance documents and memoranda, including a September 13, 2013, guidance document titled “Guidance on Infrastructure State Implementation Plan (SIP) Elements under Clean Air Act Sections 110(a)(1) and 110(a)(2)” (2013 guidance).

The most recent relevant document is a memorandum published on March 17, 2016, titled “Information on the Interstate Transport “Good Neighbor” Provision for the 2012 Fine Particulate Matter National Ambient Air Quality Standards under Clean Air Act Section 110(a)(2)(D)(i)(I)” (2016 memorandum). The 2016 memorandum describes EPA's consistent approach over the years to address interstate transport, and provides EPA's general review of relevant modeling data and air quality projections as they relate to the 2012 annual PM2.5 NAAQS. The 2016 memorandum provides information relevant to EPA Regional office review of the CAA section 110 (a)(2)(D)(i)(I) “good neighbor” provision in infrastructure SIPs with respect to the 2012 annual PM2.5 NAAQS. Michigan's submittal and this rulemaking consider information provided in that memorandum.

The 2016 memorandum provides states and EPA Regional offices with future year annual PM2.5 design values for monitors in the United States based on quality assured and certified ambient monitoring data and air quality modeling. The 2016 memorandum further describes how these projected potential design values can be used to help determine which monitors should be further evaluated to potentially address whether emissions from other states significantly contribute to nonattainment or interfere with maintenance of the 2012 annual PM2.5 NAAQS at those sites. The 2016 memorandum explains that, for purposes of addressing interstate transport for the 2012 PM2.5 NAAQS, it may be appropriate to evaluate projected air quality in 2021, which is the attainment deadline for 2012 PM2.5 NAAQS nonattainment areas classified as Moderate. Accordingly, because the available data includes 2017 and 2025 projected average and maximum PM2.5 design values calculated through the CAMx photochemical model, the 2016 memorandum suggests approaches states might use to interpolate PM2.5 values at sites in 2021. The 2016 memorandum indicates that it may be reasonable to assume receptors projected to have average and/or maximum design values above the NAAQS in both 2017 and 2025 are also likely to be either nonattainment or maintenance receptors in 2021. Similarly, the 2016 memorandum indicates that it may be reasonable to assume that receptors that are projected to attain the NAAQS in both 2017 and 2025 are also likely to be attainment receptors in 2021. However, where a potential receptor is projected to be nonattainment or maintenance in 2017, but projected to be attainment in 2025, the 2016 memorandum suggests that further analysis of the emissions and modeling may be needed to make a further judgement regarding the receptor status in 2021.

The 2016 memorandum indicates that for all but one monitor site in the eastern United States with at least one complete and valid PM2.5 design value for the annual average 2012 NAAQS in the 2009-2013 period, the modeling data shows that monitors were expected to both attain and maintain the 2012 annual PM2.5 NAAQS in both 2017 and 2025. The modeling results provided in the 2016 memorandum show that out of seven PM2.5 monitors located in Allegheny County, Pennsylvania, one monitor is expected to be above the 2012 annual PM2.5 NAAQS in 2017. Further, that monitor the Liberty monitor (ID number 420030064), is projected to be above the NAAQS only under the model's maximum projected conditions (used in EPA's interstate transport framework to identify maintenance receptors), and is projected to both attain and maintain the NAAQS (along with all Allegheny County monitors) in 2025. The 2016 memorandum therefore indicates that under such a condition (where EPA's photochemical modeling indicates an area will maintain the 2012 annual PM2.5 NAAQS in 2025 but not attain in 2017) further analysis of the site should be performed to determine if the site may be a nonattainment or maintenance receptor in 2021 (the attainment deadline for moderate PM2.5 areas).

The 2016 memorandum also indicates that based on modeling projections, there are 17 potential nonattainment or maintenance receptors in California, located in the San Joaquin Valley and South Coast nonattainment areas, and one potential receptor in Shoshone County, Idaho.

The 2016 memorandum also indicates that for certain states with incomplete ambient monitoring data, additional information including the latest available data, should be analyzed to determine whether there are potential downwind air quality problems that may be impacted by transported emissions. These states include all or portions of Florida, Illinois, Idaho (outside of Shoshone County), Tennessee, and Kentucky. With the exception of four counties in Florida, the data quality problems have subsequently been resolved for these areas, and these areas now have current design values below the 2012 annual PM2.5 NAAQS and are expected to maintain the NAAQS due to downward emission trends for NOX and SO2.

Michigan's submittal indicates that the state used data from the 2016 memorandum in its analysis. EPA considered the analysis from Michigan, as well as additional analysis conducted by EPA, in its review of the Michigan submittal.

III. EPA's Review

This rulemaking proposes action on the portion of Michigan's March 23, 2017 SIP submission addressing the good neighbor provision requirements of CAA Section 110(a)(2)(D)(i). State plans must address four requirements of the good neighbor provisions (commonly referred to as “prongs”), including:

—Prohibiting any source or other type of emissions activity in one state from contributing significantly to nonattainment of the NAAQS in another state (prong one);

—Prohibiting any source or other type of emissions activity in one state from interfering with maintenance of the NAAQS in another state (prong two);

—Prohibiting any source or other type of emissions activity in one state from interfering with measures required to prevent significant deterioration (PSD) of air quality in another state (prong three); and

—Protecting visibility in another state (prong four).

This rulemaking is evaluating Michigan's March 23, 2017 submission, to determine whether Michigan's interstate transport provisions in its PM2.5 infrastructure SIP meet prongs one and two of the good neighbor requirements of the CAA. Prongs three and four will be evaluated in a separate rulemaking.

EPA has developed a consistent framework for addressing the prong one and two interstate transport requirements with respect to the PM2.5 NAAQS in several previous Federal rulemakings. The four basic steps of that framework include: (1) Identifying downwind receptors that are expected to have problems attaining or maintaining the NAAQS; (2) identifying which upwind states contribute to these identified problems in amounts sufficient to warrant further review and analysis; (3) for states identified as contributing to downwind air quality problems, identifying upwind emissions reductions necessary to prevent an upwind state from significantly contributing to nonattainment or interfering with maintenance of the NAAQS downwind; and (4) for states that are found to have emissions that significantly contribute to nonattainment or interfere with maintenance of the NAAQS downwind, reducing the identified upwind emissions through adoption of permanent and enforceable measures. This framework was most recently applied with respect to PM2.5 in the August 8, 2011 Cross-State Air Pollution Rule (CSAPR) (76 FR 48208), designed to address both the 1997 and 2006 PM2.5 standards, as well as the 1997 and 2008 ozone standards.

Michigan's March 23, 2017 submission indicates that the implementation of the Michigan SIP for SO2 will result in SO2 reductions of over 11,000 tons per year through permit changes and Rule 336.1430 in the Michigan Administrative Code (Michigan R 336.1430). The submission indicates that rules R 336.1301 through R 336.1374 in the Michigan SIP limit emissions of particulate matter throughout the state. The submission indicates that rules R 336.1401 through R 336.1420 and R 336.1407 reduce SO2 emissions throughout the state, and that rule R 336.1430 reduces SO2 emissions in the Detroit area. The submission indicates that rules R 336.1801 through 336.1834 limit emissions of NO2 throughout the state. In addition, Michigan's submission indicates that power plant retirements across the state have resulted in reductions of approximately 9,800 tons of NOX and 30,990 tons of SO2 per year.

Michigan's submittal also contains a technical analysis of its interstate transport of pollution relative to the 2012 annual PM2.5 NAAQS. The technical analysis studies Michigan sources' contribution to monitored PM2.5 air quality values in other states and whether Michigan would need to take further steps to decrease its emissions to (and therefore impacts on) those areas. Michigan's technical analysis considers CSAPR rule implementation, EPA guidance and memoranda, and other factors such as meteorology and state-wide emissions inventories. Michigan did not focus on potential contribution to areas EPA identified as not attaining the 2012 annual PM2.5 NAAQS based on monitor data in Alaska, California, Idaho, Nevada, or Hawaii.

The distance between Michigan these areas, coupled with the prevailing wind directions, leads EPA to propose to find that Michigan will not contribute significantly to any of the potential receptors in those states.

With respect to Illinois, EPA's source apportionment modeling in our original CSAPR analysis predicts that Michigan's emissions impact Illinois monitors. Michigan found, and our review confirmed, that despite the fact that Michigan emissions potentially contribute to increases in PM2.5 levels monitored in Illinois, all areas in Illinois are attaining the 2012 annual PM2.5 NAAQS based on 2015-2017 data.

EPA considered available data from monitors in Illinois for its analysis of Michigan's submittal. As shown in Table 1, Illinois is now meeting the standard throughout the state.

Table 1—Illinois Annual PM2.5 Design Values for 2015-2017 Design Period
Local site name | Monitoring site | 2015-2017 Design value (μg/m³)
Alsip | 17-031-0001 | 9.5
Washington High School | 17-031-0022 | 9.3
Mayfair Pump Station | 17-031-0052 | 9.1
Springfield Pump Station | 17-031-0057 | 10.2
Com Ed | 17-031-0076 | 9.5
Schiller Park | 17-031-3103 | 10.5
Summit | 17-031-3301 | 9.7
Des Plaines | 17-031-4007 | 9.4
Northbrook | 17-031-4201 | 8.4
Cicero | 17-031-6005 | 10.0
Naperville | 17-043-4002 | 8.3
Elgin | 17-089-0003 | 8.3
Aurora | 17-089-0007 | 8.3
Cary | 17-111-0001 | + 8.2
Joliet | 17-197-1002 | 7.9
Braidwood | 17-197-1011 | 7.9
Jerseyville | 17-083-0117 | + 8.8
Granite City | 17-119-1007 | 9.7
Alton | 17-119-2009 | 8.8
Wood River | 17-119-3007 | 8.7
Houston | 17-157-0001 | 8.5
East St. Louis | 17-163-0010 | 9.8
Champaign | 17-019-0006 | 7.9
Bondville | 17-019-1001 | 7.8
Knight Prairie | 17-065-0002 | 8.2
Normal | 17-113-2003 | 8.0
Decatur | 17-115-0013 | 8.4
Peoria | 17-143-0037 | 8.2
Rock Island | 17-161-3002 | 8.1
Springfield | 17-167-0012 | 8.2
Rockford | 17-201-0013 | 8.3
+ Data incomplete.

Illinois' air quality trends reflect what is shown across the nation: A general downward trend in ambient air concentrations, including sites that Michigan analyzed in its submittal. During the last valid design period, only three Illinois counties reported 2008-2010 annual PM2.5 design values above the NAAQS: Cook, Madison, and Saint Clair counties. In Cook County, the 2008-2010 annual design value was 13.0 micrograms per cubic meter (µg/m³), and the annual mean values have trended downward. As shown in the table above, these areas are now meeting the NAAQS for the 2015 to 2017 design period. Therefore, EPA expects that all counties in Illinois will attain and maintain the PM2.5 NAAQS without the need for additional PM2.5 reductions in Michigan, and for this reason, we propose to find that Michigan will not contribute significantly to nonattainment or maintenance problems in Illinois.

Michigan found, and our review confirmed, that despite the fact that Michigan emissions potentially increase PM2.5 levels monitored in areas in other states, all of those areas are attaining the 2012 annual PM2.5 NAAQS based on 2014-2016 data. Michigan found, and our review confirmed, that despite the fact that Michigan emissions potentially increase PM2.5 levels monitored in Pennsylvania, all areas in Pennsylvania except for Allegheny County are attaining the 2012 annual PM2.5 NAAQS based on 2015-2017 data.

The modeling information contained in EPA's 2016 memorandum shows that one monitor in Allegheny County, PA (the Liberty monitor, 420030064) may have a maintenance issue in 2017, but is projected to both attain and maintain the NAAQS by 2025. A linear interpolation of the modeled design values to 2021 shows that the monitor is likely to both attain and maintain the standard by 2021. Emissions and air quality data trends help to corroborate this interpolation.

Over the last decade, local and regional emissions reductions of primary PM2.5, sulfur dioxide (SO2), and nitrogen oxide (NOX), have led to large reductions in annual PM2.5 design values in Allegheny County, Pennsylvania. In 2007, all of Allegheny County's PM2.5 monitors exceeded the level of the 2012 annual PM2.5 NAAQS (the 2005-2007 annual average design values ranged from 12.9-19.8 µg/m³, as shown in Table 3). The 2015-2017 annual average PM2.5 design values now show that only one monitor (Liberty, at 13.0 µg/m³) exceeds the health-based annual PM2.5 NAAQS of 12.0 µg/m³.

Table 3—PM2.5 Annual Design Values in µg/m3
Monitor | 2005-2007 | 2006-2008 | 2007-2009 | 2008-2010 | 2009-2011 | 2010-2012 | 2011-2013 | 2012-2014 | 2013-2015 | 2014-2016 | 2015-2017
Avalon |  |  |  | * 16.3 | * 14.7 | 13.4 | 11.4 | 10.6 | 10.6 | * 10.4 | * 10.2
Lawrenceville | 15.0 | 14.0 | 13.1 | 12.2 | 11.6 | 11.1 | 10.3 | 10.0 | 9.7 | 9.5 | 9.2
Liberty | 19.8 | 18.3 | 17.0 | 16.0 | 15.0 | 14.8 | 13.4 | 13.0 | 12.6 | 12.8 | 13.0
South Fayette | 12.9 | * 11.8 | 11.7 | 11.1 | 11.0 | 10.5 | 9.6 | 9.0 | 8.8 | * 8.5 | * 8.4
North Park | * 13.0 | * 12.3 | * 11.3 | * 10.1 | 9.7 | 9.4 | 8.8 | 8.5 | 8.5 | * 8.2 | * 8.2
Harrison | 15.0 | 14.2 | 13.7 | 13.0 | 12.4 | * 11.7 | 10.6 | 10.0 | 9.8 | 9.8 | 9.8
North Braddock | 16.2 | 15.2 | 14.3 | 13.3 | 12.7 | 12.5 | * 11.7 | 11.4 | 11.2 | 11.0 | 10.8
Parkway East Near-Road |  |  |  |  |  |  |  |  |  | * 10.6 | * 10.6
Clairton | 15.3 | 14.3 | 13.2 | 12.4 | * 11.5 | * 10.9 | * 9.8 | 9.5 | 9.8 | * 9.8 | * 9.8
* Value does not contain a complete year's worth of data.

The Liberty monitor is already close to attaining the NAAQS, and expected emissions reductions in the next three years will lead to additional reductions in measured PM2.5 concentrations. There are both local and regional components to the measured PM2.5 levels in Allegheny County and the greater Pittsburgh area. Previous CSAPR modeling showed that regional emissions from upwind states, particularly SO2 and NOX emissions, contribute to PM2.5 nonattainment at the Liberty monitor. In recent years, large SO2 and NOX reductions from power plants have occurred in Pennsylvania and states upwind from the Greater Pittsburgh region. Based on existing CSAPR budgets, Pennsylvania's energy sector emissions of SO2 will have decreased 166,000 tons between 2015-2017 as a result of CSAPR implementation. This is due to both the installation of emissions controls and retirements of electric generating units (EGUs).

Between 2011 and 2016, 27.4 gigawatts of coal-fired EGUs have retired in Pennsylvania and the closest upwind states (West Virginia, Ohio, Kentucky, Indiana, Illinois, and Michigan) according to the Energy Information Administration's Preliminary Monthly Electric Generator Inventory, April 2017 (form EIA-860M, at https://www.eia.gov/electricity/data/eia860m/xls/april_generator2017.xlsx). In addition, between 2017 and 2021, an additional 8.8 gigawatts of coal-fired EGUs are expected to retire in the same upwind states. This includes large EGUs such as JM Stuart in Ohio (2,308 megawatts [MW]), Killen Station in Ohio (600 MW), WH Sammis in Ohio (720 MW), Michigan City in Indiana (469 MW), Will County in Illinois (510 MW), Baldwin Energy Complex in Illinois (576 MW), Paradise in Kentucky (1,230 MW), and Baily in Indiana (480 MW). These regional coal unit retirements will lead to further emissions reductions which will help ensure that Alleghany County monitors will not have nonattainment or maintenance issues by 2021.

In addition to regional emissions reductions and plant closures noted above, additional local reductions in both direct PM2.5 and SO2 emissions are also expected to occur and should also contribute to further declines in Allegheny County's PM2.5 monitor concentrations. For example, significant SO2 reductions will occur at U.S. Steel's integrated steel mill facilities in southern Allegheny County due to reductions required via federally-enforceable permits issued by Allegheny County to support its attainment plan submitted to meet requirements in CAA section 172(c) for the 1-hr SO2 NAAQS. Reductions are expected by October 2018 largely due to declining sulfur content in the Clairton Coke Work's coke oven gas (COG) due to upgraded controls. Because this COG is burned at U.S. Steel's Clairton Coke Works, Irvin Mill, and Edgar Thompson Steel Mill, these reductions in sulfur content should contribute to much lower PM2.5 emissions from precursors in the immediate future after October 4, 2018 as SO2 is a precursor to PM2.5. Additionally, improvement in SO2 removal efficiency due to an upgrade in the Bruce Mansfield Power Plant's flue gas desulfurization (FGD) units expected by October 2018 should also help reduce precursor emissions from neighboring Beaver County, Pennsylvania. The Allegheny County and Beaver County SO2 SIP submissions, which EPA is reviewing pursuant to CAA requirements, also discuss expected lower SO2 emissions in the Allegheny County area resulting from reduced sulfur content requirements in vehicle fuels, reductions in general emissions due to declining population in the Greater Pittsburgh region, and several shutdowns of significant emitters of SO2 in Allegheny County.

Projected power plant closures and additional emissions controls in Pennsylvania and upwind states will help further reduce both direct PM2.5 and PM2.5 precursors. Regional emission reductions will continue to occur from current on-the-books Federal and state regulations such as the Federal on-road and non-road vehicle programs, and various rules for major stationary emissions sources.

In addition to regional emissions reductions and plant closures, additional local reductions to both direct PM2.5 and SO2 emissions are expected to occur and should also contribute to further declines in Allegheny County's PM2.5 monitor concentrations. For example, significant SO2 reductions have recently occurred at US Steel's integrated steel mill facilities in southern Allegheny County as part of a 1-hr SO2 NAAQS SIP.¹ Reductions are largely due to declining sulfur content in the Clairton Coke Work's COG. Because this COG is burned at US Steel's Clairton Coke Works, Irvin Mill, and Edgar Thompson Steel Mill, these reductions in sulfur content should contribute to much lower PM2.5 precursor emissions in the immediate future. The Allegheny SO2 SIP also projects lower SO2 emissions resulting from vehicle fuel standards, reductions in general emissions due to declining population in the Greater Pittsburgh region and several shutdowns of significant sources of emissions in Allegheny County.

¹ http://www.achd.net/air/publichearing2017/SO2_2010_NAAQS_SIP_5-1-2017.pdf.

EPA modeling projections, the recent downward trend in local and upwind emissions reductions, the expected continued downward trend in emissions between 2018 and 2021, and the downward trend in monitored PM2.5 concentrations all indicate that the Liberty monitor will attain and be able to maintain the 2012 annual PM2.5 NAAQS by 2021.

With respect to Florida, in the CSAPR modeling analysis for the 1997 PM2.5 NAAQS, Florida did not have any potential nonattainment or maintenance receptors identified for the 1997 or 2006 PM2.5 NAAQS. At this time, it is anticipated that this trend will continue, however, as there are ambient monitoring data gaps in the 2009-2013 data that could have been used to identify potential PM2.5 nonattainment and maintenance receptors for Miami/Dade, Gilchrist, Broward and Alachua counties in Florida, the modeling analysis of potential receptors was not complete for these counties. However, the most recent ambient data (2015-2017) for these counties indicates design values well below the level of the 2012 annual PM2.5 NAAQS. In addition, the highest value for these observed monitors is 8.0 μg/m³ at the Hillsborough County monitor (12-057-3002), which is well below the NAAQS. This is also consistent with historical data: Complete and valid design values in the 2006-2008, 2007-2009 and/or 2008-2010 periods for these counties were all well below the 2012 annual PM2.5 NAAQS. This is also consistent with historical data: Complete and valid design values in the 2006-2008 and/or 2007-2009 periods for these counties were well below the 2012 annual PM2.5 NAAQS. For these reasons, we find that none of the counties in Florida with monitoring gaps between 2009-2013 should be considered either nonattainment or maintenance receptors for the 2012 annual PM2.5 NAAQS. For these reasons, we propose to find that emissions from Michigan will not significantly contribute to nonattainment or interfere with maintenance of the 2012 annual PM2.5 NAAQS in Florida. We find further support in the fact that EPA's source apportionment modeling predicting state impacts on downwind monitors in 2012 under the base case scenario in our original CSAPR analysis, showing little impact from Michigan to any of Florida's counties.

The conclusions of Michigan's analysis are consistent with EPA's expanded review of its March 23, 2017 submittal. All areas that Michigan sources potentially contribute to are expected to attain and maintain the 2012 annual PM2.5 NAAQS, and as demonstrated in its submittal, Michigan will not contribute to projected nonattainment or maintenance issues at any sites in 2021. Michigan's analysis shows that through permanent and enforceable measures currently contained in its SIP, and other emissions reductions occurring in Michigan and in other states, monitored PM2.5 air quality in all identified areas that Michigan sources may impact will continue to improve, and that no further measures are necessary to satisfy Michigan's responsibilities under CAA section 110(a)(2)(D)(i)(I). Therefore, EPA is proposing that prongs one and two of the interstate pollution transport element of Michigan's infrastructure SIP are approvable.

IV. What action is EPA taking?

EPA is proposing to approve a portion of Michigan's March 23, 2017, submittal certifying that the current Michigan SIP is sufficient to meet the required infrastructure requirements under CAA section 110(a)(2)(D)(i)(I), specifically prongs one and two, as set forth above. EPA is requesting comments on the proposed approval.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Dated: October 29, 2018.
Cathy Stepp,
Regional Administrator, Region 5.

[FR Doc. 2018-24817 Filed 11-13-18; 8:45 am]

BILLING CODE 6560-50-P